Title 3—

The President

Memorandum of December 29, 2006

Assignment of Function Under Section 721(k) of the Defense Production Act of 1950

Memorandum for the Secretary of the Treasury

By the authority vested in me by the Constitution and the laws of the United States, including section 301 of title 3, United States Code, I hereby assign to you the function of the President under section 721(k) of the Defense Production Act of 1950 (50 U.S.C. App. 2170(k)), for purposes of submitting such report by February 28, 2007.

You are authorized and directed to publish this memorandum in the Federal Register.

THE WHITE HOUSE,

Washington, December 29, 2006.

[FR Doc. 07-20

Filed 1-4-07; 8:49 am]

Billing code 4810-25-M